DEPARTMENT OF HEALTH AND HUMAN SERVICES

Health Care Financing Administration

[HCFA-1162-N]

Medicare Program; Establishment of the Advisory Panel on Ambulatory Payment Classification Groups and Request for Nominations for Members

AGENCY: Health Care Financing Administration (HCFA), HHS.

ACTION: Notice.

SUMMARY: This notice announces the establishment of the Advisory Panel on Ambulatory Payment Classification (APC) Groups and solicits nominations for members of the panel. The purpose of the panel is to review the APC groups and their associated weights and advise the Secretary and the Administrator of the Health Care Financing Administration (HCFA) concerning the clinical integrity of these groups and weights, which are major elements of the hospital outpatient prospective payment system (OPPS). This notice also announces that on November 21, 2000 the Secretary signed the charter establishing the panel. The charter will terminate two years from the signing date unless renewed by the Secretary.

DATES: Nominations for members will be considered if we receive them at the appropriate address, as provided below, before 5 p.m. on December 26, 2000.

ADDRESSES: Mail written nominations for membership to the following address ONLY: Health Care Financing Administration, Department of Health and Human Services, Attention: HCFA-1162-N, P.O. Box 8013, Baltimore, MD 21244-8013.

If you prefer, you may deliver, by courier, your written nominations to one of the following addresses: Hubert H. Humphrey Building, Room 443-G, 200 Independence Avenue, SW., Washington, DC 20201, or Health Care Financing Administration, Room C5-14-03, Central Building, 7500 Security Boulevard, Baltimore, MD 21244-1850.

Nominations mailed to those addresses designated for courier delivery may be delayed and could be considered late. Because of staffing and resource limitations, we cannot accept nominations by facsimile (FAX) or email transmission. Please refer to file code HCFA-1162-N on each nomination.

You may receive a copy of the Secretary's charter for the panel by mailing a written request to the following address: Health Care Financing Administration, Department of Health and Human Services, Attention: HCFA-1162-N, P.O. Box 8013, Baltimore, MD 21244-8013.

FOR FURTHER INFORMATION CONTACT: Paul Olenick, (410) 786-0282.

SUPPLEMENTARY INFORMATION:

I. Background

The requirement for the Secretary to consult with an outside Advisory Panel on Ambulatory Payment Classification (APC) Groups is set forth in section 1833(t)(9)(A) of the Social Security Act (the Act), as added by section 201(h) and redesignated by section 202(a)(2) of the Balanced Budget Refinement Act of 1999 (BBRA 1999). The Secretary signed the charter establishing the panel on November 21, 2000. The charter will terminate two years from the signing date unless renewed by the Secretary. The purpose of the panel is to review, and advise the Secretary and the Administrator of the Health Care Financing Administration (HCFA) concerning, the clinical integrity of the APC groups and associated weights. The panel consists of up to 15 members, selected by the Secretary or a designee, and a Chair, who is a government official appointed by the Secretary.

The panel meets once each calendar year in January or February so that we may consider its advice when we prepare the Annual Notice of Proposed Rulemaking for changes to the hospital outpatient prospective payment system (OPPS). The work of the panel is technical in nature and will concentrate on the operational aspects of the APC system. We will prepare the agenda for the panel's activities, which will set the boundaries for discussion, and will include issues such as the following:

• The determination as to whether selected procedures are similar both clinically and in terms of resource use.

• The assignment of new HCFA Common Procedure Coding System (HCPCS) codes to new or existing APCs.

• The reassignment of HCPCS codes to different APCs.

• The reconfiguring of existing APCs into new APCs.

The panel will not make policy recommendations and will not discuss items not on the agenda. Items that will not be considered for the agenda include the following, as well as other items that are determined by us to be outside the technical scope of the panel's activities:

• The conversion factor.

• The OPPS wage adjustments.

• The outlier or transitional corridor payments.

• The transitional pass-through payments for medical devices, drugs, and biologicals.

In order to obtain the broadest possible input for its work, the panel must consult with entities and organizations, such as the medical device and drug industries, with expert technical knowledge of the components of the APCs. The panel may use data collected or developed from entities and organizations other than the Department of Health and Human Services and HCFA in conducting its review.

We are requesting nominations for members to serve on the panel. Panel members serve without compensation, although travel, meals, lodging, and related expenses will be reimbursed in accordance with standard government travel regulations. We have a special interest in ensuring that women, minorities, and the physically challenged are adequately represented on the panel and encourage nominations of qualified candidates from those groups.

II. Criteria for Nominees

Nominees must be representatives of Medicare providers (including Community Mental Health Centers) subject to the OPPS, with technical and/or clinical expertise in any of the following areas:

• Hospital payment systems.

• Hospital medical care delivery systems.

• Outpatient payment requirements.

• Ambulatory payment classification groups.

• Use of, and payment for, drugs and medical devices in an outpatient setting.

• Provision of, and payment for, partial hospitalization services.

• Any other relevant expertise.

It is not necessary that any nominee possess expertise in all of the areas listed, but each must have a minimum of five years experience, and currently be employed full-time, in his or her area of expertise. Members of the panel serve overlapping four-year terms, contingent upon the rechartering of the panel.

Any interested person may nominate one or more qualified individuals. Self-nominations will also be accepted. Each nomination must include a letter of nomination, a curriculum vita of the nominee, and a statement from the nominee that the nominee is willing to serve on the panel.

Authority: Section 1833(t)(9)(A) of the Social Security Act (42 U.S.C. 1395(t)).

Dated: November 29, 2000.
Michael M. Hash,
Acting Administrator, Health, Care Financing Administration

[FR Doc. 00-30994 Filed 12-1-00; 12:21 am]

BILLING CODE 4120-01-P